SECURITIES AND EXCHANGE COMMISSION

[Release No. 34-87687; File No. SR-CboeBZX-2019-072]

Self-Regulatory Organizations; Cboe BZX Exchange, Inc.; Notice of Withdrawal of a Proposed Rule Change To Amend the Fee Schedule Assessed on Members To Establish a Monthly Trading Rights Fee

December 9, 2019.

On August 1, 2019, Cboe BZX Exchange, Inc. (“BZX” or the “Exchange”) filed with the Securities and Exchange Commission (“Commission”), pursuant to Section 19(b)(1) of the Securities Exchange Act of 1934 (“Act”),¹ and Rule 19b-4 thereunder,² a proposed rule change to amend the BZX Fee Schedule to establish a monthly Trading Rights Fee to be assessed on Members. The proposed rule change was immediately effective upon filing with the Commission pursuant to Section 19(b)(3)(A) of the Act.³ The proposed rule change was published for comment in the Federal Register on August 21, 2019.⁴ The Commission received one comment letter on the proposed rule change, and one response letter from the Exchange.⁵ On September 27, 2019, the Commission temporarily suspended the proposed rule change and instituted proceedings to determine whether to approve or disapprove the proposed rule change.⁶

¹ 15 U.S.C. 78s(b)(1).

² 17 CFR 240.19b-4.

³ 15 U.S.C. 78s(b)(3)(A).

⁴ See Securities Exchange Act Release No. 86686 (August 15, 2019), 84 FR 43633.

⁵ See Letters from: Theodore R. Lazo, Managing Director and Associate General Counsel, SIFMA, dated September 12, 2019; Adrian Griffiths, Assistant General Counsel, Cboe, dated September 25, 2019. Comment letters are available on the Commission's website at: https://www.sec.gov/comments/sr-cboebyx-2019-013/srcboebyx2019013.htm.

⁶ See Securities Exchange Act Release No. 87142, 84 FR 52902 (October 3, 2019).

On November 21, 2019, the Exchange withdrew the proposed rule change (SR-CboeBZX-2019-072).

For the Commission, by the Division of Trading and Markets, pursuant to delegated authority.⁷
⁷ 17 CFR 200.30-3(a)(12).
Jill M. Peterson,
Assistant Secretary.

[FR Doc. 2019-26837 Filed 12-12-19; 8:45 am]

BILLING CODE 8011-01-P